DEPARTMENT OF THE TREASURY

Internal Revenue Service

Advisory Group to the Commissioner of Internal Revenue

AGENCY: Internal Revenue Service (IRS), Treasury.

ACTION: Notice.

SUMMARY: The IRS Advisory Council (IRSAC) will hold a public meeting on Wednesday, December 6, 2000.

FOR FURTHER INFORMATION CONTACT: Candy Ryan, Office of National Public Liaison, CL:NPL, Room 7559 IR, 1111 Constitution Avenue, NW., Washington, DC 20224. Telephone: 202-622-6440, not a toll-free number. E-mail address: public_liaison@irs.gov.

SUPPLEMENTARY INFORMATION: This notice is hereby given pursuant to Section 10(a)(2) of the Federal Advisory Committee Act, 5 U.S.C. App. (1988), that a public meeting of the IRSAC will be held on Wednesday, December 6, 2000, from 9:00 a.m. to 4:30 p.m. in Room 3313, main IRS building, 1111 Constitution Avenue, NW., Washington, DC 20224. Issues to be discussed include: IRS balanced measures, business modernization update, filing season readiness, strategic planning & budgeting, and reports from the three IRSAC sub-groups regarding the IRS Wage & Investment, Small Business/Self Employed and Large & Mid Size Business operating divisions. Last minute changes to the agenda or order of topic discussions are possible and could prevent effective advance notice. The meeting will be in a room that accommodates approximately 50 people, including IRSAC members and IRS officials. Due to the limited space and security specifications, please call Candy Ryan to confirm your attendance. Ms. Ryan can be reached at (202) 622-6440 (not toll-free). Attendees are encouraged to arrive at least 30 minutes prior to the starting time of the meeting, to allow enough time to clear security at the 1111Constitution Avenue, NW. entrance.

If you would like for the IRSAC to consider a written statement, please call (202) 622-6440, or write to Karl W. Glover, Office of National Public Liaison, CL:NPL, Internal Revenue Service, 1111 Constitution Avenue, NW., Room 7559 IR, Washington, DC 20224, or E-mail at public_liaison@irs.gov.

Dated: November 14, 2000.
Susanne M. Sottile,
Designated Federal Official and Director, Office of National Public Liaison.

[FR Doc. 00-29656 Filed 11-17-00; 8:45 am]

BILLING CODE 4830-01-U